DEPARTMENT OF TRANSPORTATION

Office of the Secretary

Aviation Proceedings, Agreements Filed During the Week Ending September 27, 2002

The following Agreements were filed with the Department of Transportation under the provisions of 49 U.S.C. sections 412 and 414. Answers may be filed within 21 days after the filing of the application.

Docket Number: OST-2002-13428.

Date Filed: September 23, 2002.

Parties: Members of the International Air Transport Association.

Subject: PTC123 0205 dated 20 September 2002, Mail Vote 236—TC123 North Atlantic (except USA-Malaysia), Expedited Resolution r1-r6, Intended effective date: 1 November 2002.

Docket Number: OST-2002-13429.

Date Filed: September 23, 2002.

Parties: Members of the International Air Transport Association.

Subject: PTC123 0206 dated 20 September 2002, Mail Vote 237—TC123 Mid Atlantic Expedited Resolutions r1-r5, PTC123 0207 dated 20 September 2002, Mail Vote 238—TC123 South Atlantic Expedited Resolutions r6-r11, Intended effective date: 1 November 2002.

Docket Number: OST-2002-13432.

Date Filed: September 24, 2002.

Parties: Members of the International Air Transport Association.

Subject: PTC23 EUR-SASC 0098 dated 20 September 2002, Europe-South Asian Subcontinent Resolutions r1-r12, Minutes—PTC23 EUR-SASC 0099 dated 20 September 2002, Tables—PTC23 EUR-SASC FARES 0038 dated 20 September 2002, Intended effective date: 1 April 2003.

Dorothy Y. Beard,
Federal Register Liaison.

[FR Doc. 02-25532 Filed 10-7-02; 8:45 am]

BILLING CODE 4910-62-P